DEPARTMENT OF HEALTH AND HUMAN SERVICES

National Institutes of Health

Center for Scientific Review; Amended Notice of Meeting

Notice is hereby given of a change in the meeting of the Biostatistical Methods and Research Design Study Section, October 18, 2013, 08:00 a.m. to October 18, 2013, 06:00 p.m., Holiday Inn Inner Harbor, 301 W. Lombard Street, Baltimore, MD, 21201 which was published in the Federal Register on September 24, 2013, 78 FR 58547-58548.

The meeting will be held on December 4, 2013 from 8:00 a.m. to 5:00 p.m. The meeting location remains the same. The meeting is closed to the public.

Dated: November 5, 2013.
Michelle Trout,
Program Analyst, Office of Federal Advisory Committee Policy.

[FR Doc. 2013-26897 Filed 11-8-13; 8:45 am]

BILLING CODE 4140-01-P